DEPARTMENT OF EDUCATION

34 CFR Chapter III

[Docket ID ED-2015-OSERS-0070]

Proposed Priority and Definitions—Rehabilitation Training: Vocational Rehabilitation Technical Assistance Center-Targeted Communities

AGENCY: Office of Special Education and Rehabilitative Services, Department of Education.

ACTION: Proposed priority and definitions.

[CFDA Number: 84.264F.]

SUMMARY: The Assistant Secretary for Special Education and Rehabilitative Services (OSERS) proposes a priority and definitions to fund a cooperative agreement to develop and support a Vocational Rehabilitation Technical Assistance Center for Targeted Communities (VRTAC-TC). We take this action to focus Federal financial assistance on an identified national need. We intend the VRTAC-TC to improve the capacity of State vocational rehabilitation (VR) agencies and their partners to increase participation levels for individuals with disabilities from low-income communities and to equip these individuals with the skills and competencies needed to obtain high-quality competitive integrated employment.

DATES: We must receive your comments on or before July 27, 2015.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery: If you mail or deliver your comments about these proposed regulations, address them to Sandy DeRobertis, U.S. Department of Education, 400 Maryland Avenue SW., Room 5094, Potomac Center Plaza (PCP), Washington, DC 20202-2800.

Privacy Note: The Department's policy is to make all comments received from members of the public available for public viewing in their entirety on the Federal eRulemaking Portal at www.regulations.gov. Therefore, commenters should be careful to include in their comments only information that they wish to make publicly available.

FOR FURTHER INFORMATION CONTACT: Sandy DeRobertis. Telephone: (202) 245-6769 or by email: sandy.derobertis@ed.gov.

If you use a telecommunications device for the deaf (TDD) or a text telephone (TTY), call the Federal Relay Service (FRS), toll free, at 1-800-877-8339.

SUPPLEMENTARY INFORMATION:

Invitation to Comment: We invite you to submit comments regarding this notice. To ensure that your comments have maximum effect in developing the notice of final priority and definitions, we urge you to identify clearly the specific section of the proposed priority or definition that each comment addresses.

We invite you to assist us in complying with the specific requirements of Executive Orders 12866 and 13563 and their overall requirement of reducing regulatory burden that might result from this proposed priority and these proposed definitions. Please let us know of any further ways we could reduce potential costs or increase potential benefits while preserving the effective and efficient administration of the program.

During and after the comment period, you may inspect all public comments about this notice in Room 5094, 550 12th Street SW., PCP, Washington, DC 20202-2800, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: Under the Rehabilitation Act of 1973, as amended by the Workforce Innovation and Opportunity Act (the Rehabilitation Act), the Rehabilitation Services Administration makes grants to States and public or nonprofit agencies and organizations (including institutions of higher education) to support projects that provide training and technical assistance (TA) services designed to increase the numbers of, and improve the skills of, qualified personnel (especially rehabilitation counselors) who are trained to: (1) Provide vocational, medical, social, and psychological rehabilitation services to individuals with disabilities; (2) assist individuals with communication and related disorders; and (3) provide other services authorized under the Rehabilitation Act.

Program Authority: 29 U.S.C. 772(a)(1).

Applicable Program Regulations: 34 CFR part 385.

Proposed Priority

This notice contains one proposed priority.

Vocational Rehabilitation Technical Assistance Center for Targeted Communities.

Background

State VR agencies are authorized to operate statewide comprehensive, coordinated, effective, efficient, and accountable VR programs. Each program is an integral part of a statewide workforce development system and is designed to assess, plan, develop, and provide VR services for individuals with disabilities, consistent with their unique strengths, resources, priorities, concerns, abilities, capabilities, interests, and informed choice, so that they may prepare for and engage in competitive integrated employment and achieve economic self-sufficiency.

Poverty and disability, considered separately, can, and often do, compound the challenges that workforce development programs and VR programs need to address when offering employment and training services (DeNavas-Walt and Proctor, 2014). For example, 2012-2013 data reported by the National Center for Education Statistics (NCES) indicate that only 62 percent of students with disabilities and 73 percent of low-income students graduate from high school, as opposed to 81 percent of students overall. Indeed, regardless of age, individuals who are economically disadvantaged or disabled lag behind their peers, on average, on almost every academic and professional measure, and individuals who are both economically disadvantaged and disabled tend to lag further behind.

Moreover, the barriers to employment faced by individuals who are both economically disadvantaged and disabled are compounded when they reside in communities that have high crime rates, low-performing schools, insufficient access to public transportation, few employers, and a paucity of social service programs. Accordingly, State VR agencies have had limited success when serving economically disadvantaged individuals with disabilities in these communities.

Research suggests that the substandard participation rates and types of employment outcomes achieved through the VR system by economically disadvantaged individuals with disabilities may be shaped more by social and economic circumstances than by their cognitive, physical, or communication limitations or by their limited occupational experience, skills, and training. In general, these studies point out that as economic conditions improve and as unemployment levels decline, the demand for disability payments and VR services decreases (Fremstad, 2009; RSA, 2015).

Economically disadvantaged individuals with disabilities tend to have greater VR needs and fewer resources than more financially secure individuals with disabilities. Further, individuals with disabilities are much more likely to experience material hardships—such as food insecurity, inability to pay rent, mortgage, and utilities, or inability to afford needed medical care—than individuals without disabilities at the same income levels (Fremstad, 2009). Likewise, individuals with disabilities have greater VR needs because of the all-too-often debilitating impact upon their workforce development skills resulting from longstanding inferior access to quality schools and community support systems. Accordingly, in low-income communities there tends to be a heightened need for comprehensive wrap-around VR services for individuals with disabilities, including basic education, remedial learning, and literacy services.

The VRTAC-TC would seek both to address the persistent opportunity gaps that exist, regardless of race, between poor neighborhoods and middle class and wealthier communities and to eliminate barriers that too often prevent individuals with disabilities from low-income communities from fully accessing and benefitting from VR services. To help remedy the support gaps that may exist, the VRTAC-TC would promote greater availability of an array of comprehensive VR services, including pre-employment transition services, transition services, and customized VR services.

The VRTAC-TC would work from the assumption that VR alone cannot effectively and efficiently address the persistent, pervasive, multi-layered economic and disability-related barriers to employment specific to economically disadvantaged individuals with disabilities who live in targeted communities. This priority, therefore, is designed to provide State VR agencies and their partners with the skills and competencies needed to effectively and efficiently address these barriers and help these individuals achieve competitive integrated employment.

The VRTAC-TC would provide intensive technical assistance to State VR agencies and their partners that is designed to maximize community support services in targeted communities, complement VR services, and promote competitive integrated employment consistent with informed choice for economically disadvantaged individuals with disabilities.

These targeted communities, serving as intensive field-based intervention sites, would also serve as the basis for the VRTAC-TC, along with an online VR community of practice, to develop effective practices for serving VR consumers throughout the Nation who are both disabled and economically disadvantaged.

References

DeNavas-Walt, Carmen and Proctor, Bernadette D., “Income and Poverty in the United States: 2013” (Washington: Bureau of the Census, 2014), available at www.census.gov/content/dam/Census/library/publications/2014/demo/p60-249.pdf.

Fremstad, Shawn, “Half in Ten: Why Taking Disability into Account is Essential to Reducing Income Poverty and Expanding Economic Inclusion” (Washington: Center for Economic and Policy Research, 2009), available at www.cepr.net/index.php/publications/reports/half-in-ten/.

National Center for Education Statistics: “2012-2013 Graduation Rates,” available at www.nces.ed.gov/.

Rehabilitation Services Administration (2015). RSA-911 Case Service Report for FY 2013 (non-published).

Proposed Priority

The Assistant Secretary for Special Education and Rehabilitative Services proposes to fund a cooperative agreement to establish a Vocational Rehabilitation Technical Assistance Center for Targeted Communities (VRTAC-TC) to provide technical assistance (TA) and training to upgrade and increase the competency, skills, and knowledge of vocational rehabilitation (VR) counselors and other professionals to assist economically disadvantaged individuals with disabilities (as defined in this notice) to achieve competitive integrated employment outcomes.

The VRTAC-TC will facilitate linkages for the State VR agencies through substantial outreach to partner agencies within targeted communities (as defined in this notice) to increase the resources and key partnerships needed to address the daily living stressors that often result in unsuccessful VR case closures, including childcare needs, homelessness, hunger, safety concerns, interpersonal issues, and lack of transportation, basic or remedial education services, and literacy services.

TA and Training Deliverables

The VRTAC-TC must, at a minimum, develop and provide training, TA, and opportunities for ongoing discussion in each of the following areas to rehabilitation professionals and staff from both (1) the State VR agencies and partner agencies who are serving the targeted communities, and (2) diverse service providers throughout the Nation, including State VR agency staff, who work with high-leverage groups with national applicability (as defined in this notice) in other economically disadvantaged communities similar to the targeted communities that are the focus of this priority:

(a) Developing and maintaining formal and informal partnerships and relationships with relevant stakeholders (including, but not limited to, State and local social service and community development agencies, correctional facilities, community rehabilitation programs (CRPs), school systems, and employers) for the following coordinated activities:

(1) Increasing referrals to the State VR system for economically disadvantaged individuals with disabilities from at least two high-leverage groups with national applicability residing in each of the targeted communities; and

(2) Facilitating the provision of support services by stakeholders to VR consumers and applicants from at least two high-leverage groups with national applicability residing in each of the targeted communities;

(b) Developing and implementing outreach policies and procedures based on evidence-based and promising practices that ensure that consumers with disabilities from each of the targeted communities are located, identified, and evaluated for services; and

(c) Developing and implementing collaborative and coordinated service strategies designed to increase the number of consumers with disabilities from targeted communities who are served by the State VR agencies, receive support services from other stakeholders, and obtain, maintain, regain, or advance in competitive integrated employment.

Project Activities

To meet the requirements of this priority, the VRTAC-TC must, at a minimum, conduct the following activities:

Knowledge Development Activities

(a) Within the first year, survey each of the 80 State VR agencies regarding the action steps, including emerging, promising, and evidence-based practices utilized, that the VR agencies have previously used to address substandard participation levels and performance outcomes achieved by residents of targeted communities within their States;

(b) Within the first year, conduct a literature review of emerging, promising, and evidence-based practices relevant to the work of the VRTAC-TC. The review should include, at a minimum, research on place-based interventions and the particular needs of economically disadvantaged individuals with disabilities;

(c) By the end of the first year, post on its Web site the results of its survey and literature review; and

(d) Categorize, analyze, and provide an opportunity for interactive commentary by VR professionals about all information posted on its Web site in order to identify the workforce participation challenges and resources that underserved individuals with disabilities (as defined in this notice) from economically disadvantaged communities tend to have in common and to identify examples of the types of VR services that have been used to address their employment and training needs. This interactive process should facilitate both evaluating and adjusting the ongoing and planned interventions within the targeted communities and the development of effective practices for the nationwide VR community.

Targeted Community Selection and Development

(a) In the first year, survey each of the 80 State VR agencies to identify two or more groups of underserved individuals with disabilities from one or more targeted communities in each of their respective States. All identified targeted communities in each State must meet the eligibility requirements for designation as an Empowerment Zone under either 24 CFR 598.100 or 7 CFR 25.100;

(b) Develop intensive TA (as defined in this notice) proposals for at least 20 targeted communities to present to the Rehabilitation Services Administration (RSA). The proposals must:

(1) Include communities that reflect national diversity with respect to State, region, and culture. Communities must be situated in at least 12 States and territories located within no fewer than eight of the nine Census Divisions (State groupings) defined by the U.S. Census Bureau (For more information on Census Divisions, see www.census.gov/geo/reference/gtc/gtc_census_divreg.html). No more than two targeted communities may be located within any one State or territory, and no more than four may be located within any one Census Division; and

(2) Include the following information for each targeted community recommended:

(A) A map that shows the targeted community's boundaries and relevant demographic characteristics, including poverty concentration;

(B) Documentation that within the targeted community's boundaries:

(i) The median household income is below 200 percent of the Federal poverty level; and

(ii) The rate of unemployment is at or above the national annual average rate;

(C) A performance chart of State VR agency data that documents substandard participation levels and performance outcomes achieved by VR consumers and applicants from high-leverage groups with national applicability from the targeted communities in comparison to the State's overall performance that includes the following for all relevant groups:

(i) The number of applicants and percentage of the overall population;

(ii) The number and percentage of individuals determined eligible;

(iii) The number and percentage of individuals receiving VR services pursuant to an individualized plan for employment;

(iv) The number and percentage of individuals whose service records were closed without employment; and

(v) The number and percentage of individuals whose service records were closed after achieving employment;

(D) A brief (one or two pages) overview by the State VR agency addressing the following for high-leverage groups with national applicability from the targeted communities:

(i) The factors that the agency believes have contributed to the substandard performance outlined in the chart; and

(ii) Action steps that the VR agency has previously taken to address these performance gaps;

(E) A two- or three-page proposed intensive TA work plan by the VRTAC-TC that addresses:

(i) The performance gaps summarized in the chart required by paragraph (b)(2)(C) of this section;

(ii) The barriers to employment described in the State VR agency's overview statement required by paragraph (b)(2)(D) of this section;

(iii) The strategies being proposed to remediate the identified barriers in the targeted community;

(iv) The potential replicability of the strategies in the work plan for targeted communities in other parts of the State; and

(v) The potential to replicate the strategies in the work plan for targeted communities in other States; and

(F) Letters of support from the State VR agency and partners in the community (e.g., employers, secondary and post-secondary educational institutions, and community leaders) stating their intent to work cooperatively with the VRTAC-TC should the targeted community be chosen as a recipient of intensive TA.

Targeted Community Timeline

(a) By the end of the first year, provide RSA with, at minimum, 10 proposals (as described in paragraph (b) of the “Targeted Community Selection and Development” section of this priority) from which RSA will select six to receive intensive TA from the VRTAC-TC;

(b) By no later than the third quarter of the second year provide RSA with, at minimum, 10 proposals (as described in paragraph (b) of the “Targeted Community Selection and Development” section of this priority) in addition to the proposals described in paragraph (a) of this section, from which RSA will select six to receive intensive TA from the VRTAC-TC;

(c) By no later than the first quarter of the second year, begin providing intensive TA to VR staff, CRPs, employers, education and training entities, and community leaders, as appropriate, in at least three of the targeted communities approved by RSA in the first year;

(d) By no later than the third quarter of the second year, be providing intensive TA to VR staff, CRPs, employers, education and training entities, and community leaders, as appropriate, in all targeted communities approved by RSA in the first year;

(e) By no later than the first quarter of the third year, begin providing intensive TA to VR staff, CRPs, employers, education and training entities, and community leaders, as appropriate, in at least three of the targeted communities approved by RSA in the second year; and

(f) By no later than the third quarter of the third year, be providing intensive TA to VR staff, CRPs, employers, education and training entities, and community leaders, as appropriate, to all targeted communities approved by RSA in the second year.

Technical Assistance Activities

(a) At a minimum, provide intensive TA that is aligned with the proposals described in paragraph (b) of the Targeted Community Selection and Development section of this priority to the VR agency within each of the targeted communities on the following topic areas, as appropriate:

(1) Using labor market data and occupational information to provide individuals with disabilities from high-leverage groups with national applicability who reside in targeted communities with information about job demand, skills matching, supports, education, training, and career options;

(2) Providing disability-related consultation and services to employers about competitive integrated employment of economically disadvantaged individuals with disabilities from high-leverage groups with national applicability;

(3) Building and maintaining relationships in targeted communities with industry leaders, employer associations, and prospective employers of economically disadvantaged individuals with disabilities from high-leverage groups with national applicability;

(4) Building and maintaining relationships with secondary and post-secondary institutions and CRPs that serve to support transition activities and leverage programs and providers of basic education, remedial learning, and literacy services to the targeted communities and are committed to providing individualized wrap-around VR services that are attuned to the remedial and ongoing support services needed by economically disadvantaged individuals with disabilities;

(5) Building and maintaining alliances with schools, community organizations, and business leaders with a heightened understanding of the acculturation and assimilation issues within the targeted communities regarding culture, religion, language, dialect, and socioeconomic status that might be impeding full participation of the economically disadvantaged individuals with disabilities from high-leverage groups with national applicability; and

(6) Developing services for providers of customized training and other types of training that are directly responsive to employer needs and hiring requirements for economically disadvantaged individuals with disabilities from high-leverage groups with national applicability;

(b) By the end of the first year, post on its Web site State agency overview statements specific to high-leverage groups with national applicability along with related VR research studies identified by the VRTAC-TC;

(c) Establish no fewer than two communities of practice with the following areas of focus:

(1) One community of practice should be designed to specifically support State VR agency and related agency staff and management serving targeted communities; and

(2) One community of practice should be designed to be open to all staff and management serving economically disadvantaged communities nationwide and to address the employment needs of individuals with disabilities in those communities;

(d) Ensure that the communities of practice described in paragraph (c) of this section focus on partnerships across service systems designed to develop, implement, adjust, support, and evaluate VR processes and strategies for promoting competitive integrated employment for high-leverage groups with national applicability from targeted communities; and

(e) Develop and make available to State VR agencies and their associated rehabilitation professionals and service providers a range of targeted TA and general TA products and services designed to increase VR participation levels and outcomes achieved by individuals with disabilities from targeted communities. This TA must include, at a minimum, the following activities:

(1) Developing and maintaining a state-of-the-art information technology (IT) platform sufficient to support Webinars, teleconferences, video conferences, and other virtual methods of dissemination of information and TA; and Note: All products produced by the VRTAC-TC must meet government and industry-recognized standards for accessibility, including section 508 of the Rehabilitation Act. In meeting these requirements, the VRTAC-TC may either develop a new platform or system, or modify existing platforms or systems, so long as the requirements of the priority are met.

(2) Ensuring that all TA products are sent to the National Center for Rehabilitation Training Materials, including course curricula, audiovisual materials, Webinars, and examples of emerging and best practices related to this priority;

(f) During the fourth quarter of both the second year and the fourth year, develop and implement year-end national State VR agency forums dedicated to discussing the progress and lessons learned from the targeted communities; and

(g) During the fourth quarter of the fifth year, present a national results meeting to State VR agencies to review the data collected, best practices developed, and lessons learned from the intensive intervention sites served within the 12 targeted communities, as well as the communities of practice described in paragraph (c) of this section.

Coordination Activities

(a) Facilitate communication and coordination on an ongoing basis with other Federal agencies, State agencies, and local government workforce development partners, as well as private and nonprofit social service agencies and other VR TA centers funded by RSA, in order to:

(1) Maximize existing individual and community assets to effectively address socioeconomic issues that impact employment and overall well-being;

(2) Create a mechanism for partner organizations and community members to participate in the VR program planning process, including brainstorming and vetting new ideas and approaches to VR service provision;

(3) Create an active online community of practice that addresses the needs of participants;

(4) Organize the online community of practice to address both general barriers to employment faced by individuals with disabilities from targeted communities, and barriers to employment faced by individuals with disabilities from diverse high-leverage groups with national applicability including, but not limited to, adjudicated adults and youth, persons with multiple disabilities, and high school dropouts; and

(5) Provide greater access for targeted communities to culturally relevant VR services provided by State VR agency personnel with the support of VRTAC-TC staff and community partners;

(b) Communicate and coordinate, on an ongoing basis, with the communities of practice described in paragraph (c) of the Technical Assistance Activities section of this notice; and

(c) Maintain ongoing communications with the RSA project officer.

Application Requirements

To be funded under this priority, applicants must meet the following application requirements. RSA encourages innovative approaches to meet these requirements, which are:

(a) Demonstrate, in the narrative section of the application, under “Significance of the Project,” how the proposed project will—

(1) Recruit State VR agencies to identify targeted communities with intensive TA needs to take part in the services supported by this priority, including a detailed description of the primary factors and processes proposed to facilitate the identification and selection of these communities;

(2) Address State VR agencies' capacity to meet the employment and training needs of individuals with disabilities from high-leverage groups with national applicability from targeted communities. To meet this requirement, the applicant must:

(i) Demonstrate knowledge of emerging and best practices in conducting outreach and providing VR services to applicants and consumers from economically disadvantaged communities; and

(ii) Demonstrate knowledge of emerging and best practices in conducting outreach and providing VR services to high-leverage groups with national applicability that are frequently reported as underserved or achieving substandard employment outcomes in statewide comprehensive needs assessments, VR-related research studies, or monitoring reports prepared by RSA pursuant to periodic onsite monitoring visits; and

(3) Result in increases both in the number of individuals with disabilities from high-leverage groups with national applicability receiving services from State VR agencies within targeted communities and the number and quality of employment outcomes in competitive integrated employment achieved by these individuals;

(b) Demonstrate, in the narrative section of the application, under “Quality of Project Services,” how the proposed project will—

(1) Achieve its goals, objectives, and intended outcomes. To meet this requirement, the applicant must provide—

(i) Measurable intended project outcomes;

(ii) A plan for how the proposed project will achieve its intended outcomes; and

(iii) A plan for communicating and coordinating with key staff in State VR agencies, State and local partner programs, RSA partners such as the Council of State Administrators of Vocational Rehabilitation (CSAVR) and the National Council of State Agencies for the Blind (NCSAB), and other TA Centers and relevant programs within the Departments of Education, Labor, and Commerce;

(2) Use a conceptual framework to develop project plans and activities, describing any underlying concepts, assumptions, expectations, beliefs, or theories, as well as the presumed relationships or linkages among these variables, and any empirical support for this framework;

(3) Be based on current research and make use of evidence-based and promising practices;

(4) Develop products and provide services that are of high quality and sufficient intensity and duration to achieve the intended outcomes of the proposed project;

(5) Develop products and implement services to maximize the project's efficiency. To address this requirement, the applicant must describe—

(i) How the proposed project will use technology to achieve the intended project outcomes; and

(ii) With whom the proposed project will collaborate and the intended outcomes of this collaboration;

(c) Demonstrate, in the narrative section of the application under “Quality of the Evaluation Plan,” how the proposed project will—

(1) Measure and track the effectiveness of the TA provided. To meet this requirement, the applicant must describe its proposed approach to—

(i) Collecting data on the effectiveness of the TA activity from State VR agencies, partners, or other sources, as appropriate; and

(ii) Analyzing data and determining the effectiveness of the TA provided for at least two high-leverage groups with national applicability residing in each of the 12 targeted communities. This process includes evaluation of the effectiveness of current practices within the selected targeted communities throughout the project period, with a goal of demonstrating substantial progress towards achieving outcome parity for the high-leverage groups and other targeted groups with the State VR agency's overall performance with respect to number of applications received and processed, eligibility assessments completed, and both the number and quality of employment outcomes achieved;

(2) Conduct an evaluation of progress made by all of the targeted communities on an annual basis. At the end of the final year of the project, the VRTAC-TC will submit a final report on the project performance to detail the outcomes of individuals with disabilities in the targeted communities. The evaluation will utilize multiple data points as evidence of progress as compared to the baseline established at the beginning of the project, including State VR agency reported data, changes in State policies and procedures, customer surveys, and State personnel input, as well as any other relevant stakeholder input; and

(3) Collect and analyze preliminary quantitative and qualitative data of VR services facilitated and the outcomes achieved by economically disadvantaged individuals with disabilities in at least one other part of the State in which a targeted community is located. State VR personnel from the targeted communities approved by RSA within the first year will serve as trainers for colleagues in other parts of the State by applying or modifying the strategies learned from the VRTAC-TC;

(d) Demonstrate, in the narrative section of the application under “Adequacy of Project Resources,” how—

(1) The proposed key project personnel, consultants, and subcontractors have the qualifications and experience to provide TA to State VR agencies and their partners for each of the activities in this priority and to achieve the project's intended outcomes;

(2) The applicant and any key partners have adequate resources to carry out the proposed activities; and

(3) The proposed costs are reasonable in relation to the anticipated results and benefits;

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated to the project and how these allocations are appropriate and adequate to achieve the project's intended outcomes, including an assurance that such personnel will have adequate availability to ensure timely communications with stakeholders and RSA;

(3) The proposed management plan will ensure that the products and services provided are of high quality; and

(4) The proposed project will benefit from a diversity of perspectives, including those of State and local personnel, TA providers, researchers, and policy makers, among others, in its development and operation.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Definitions

Background

We propose the following definitions to help ensure that applicants clearly understand how we use these terms in the priority. We base these definitions on definitions that the Department uses or relies on in other contexts.

Proposed Definitions

The Assistant Secretary proposes the following definitions for this program. We may apply one or more of these definitions in any year in which this program is in effect.

Economically disadvantaged individuals with disabilities means individuals with disabilities who are from a household with a median household income below 200 percent of the Federal poverty level; individuals receiving Federal financial assistance through Temporary Assistance to Needy Families (TANF), Social Security Disability Insurance (SSDI), or Supplemental Security Income (SSI); or individuals residing in public housing or receiving assistance under the Section 8 housing-choice voucher program.

General technical assistance (TA) means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

High-leverage groups with national applicability means groups of individuals with disabilities who are frequently identified by State VR agencies throughout the Nation in their statewide comprehensive needs assessments as groups comprised of individuals that are either underserved or who have achieved substandard performance. Examples of these groups include, but are not limited to, the following populations:

(A) Residents of rural and remote communities;

(B) Adjudicated adults and youth;

(C) Youth with disabilities in foster care;

(D) Individuals with disabilities receiving Federal financial assistance through TANF;

(E) Culturally diverse populations, e.g., African Americans, Native Americans, and non-English speaking populations;

(F) High school dropouts and functionally illiterate consumers;

(G) Persons with multiple disabilities, e.g., deaf-blindness, HIV/AIDS-substance abuse; and

(H) SSI and SSDI recipients, including subminimum-wage employees.

Intensive technical assistance (TA) means TA services often provided on-site and requiring a stable, ongoing relationship between the VRTAC-TC staff and the TA recipient. Intensive TA should result in changes to policy, programs, practices, or operations that support increased recipient capacity or improved outcomes at one or more systems levels.

Targeted community means any economically disadvantaged community that qualifies as an Empowerment Zone under either 24 CFR 598.100 or 7 CFR 25.100, and in which (a) the median household income is below 200 percent of the Federal poverty level; (b) the unemployment rate is at or above the national average; and (c) as a group, individuals with disabilities have historically sought, been determined eligible for, or received VR services from a State VR agency at less than 65 percent of the average rate for the State VR agency, or who have achieved competitive integrated employment outcomes subsequent to receiving VR services at 65 percent or less of the State VR agency's overall employment outcome level.

Targeted technical assistance (TA) means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

Underserved individuals with disabilities means individuals with disabilities who, because of disability, place of residence, geographic location, age, race, gender, or socioeconomic status, have not historically sought, been determined eligible for, or received VR services at a rate of 65 percent or more of the State's overall service level groups. Underserved individuals include, but are not limited to, subminimum wage employees; adjudicated youth and adults; culturally diverse populations such as African Americans, Native Americans, and non-English speaking persons; individuals living in rural areas; and persons with multiple disabilities such as deaf-blindness.

Final Priority and Definitions: We will announce the final priority and definitions in a notice in the Federal Register. We will determine the final priority and definitions after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that would maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing the proposed priority and definitions only on a reasoned determination that their benefits would justify their costs. In choosing among alternative regulatory approaches, we selected those approaches that maximize net benefits. Based on the analysis that follows, the Department believes that this regulatory action is consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Rehabilitation Training program have been well established over the years through the successful completion of similar projects. The proposed priority and definitions would better prepare State VR agency personnel to assist individuals with disabilities living in targeted communities to achieve competitive integrated employment in today's challenging labor market.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 23, 2015.
Michael K. Yudin,
Assistant Secretary for Special Education and Rehabilitative Services.

[FR Doc. 2015-15754 Filed 6-25-15; 8:45 am]

BILLING CODE 4000-01-P